DEPARTMENT OF HOMELAND SECURITY

Coast Guard

33 CFR Part 117

[Docket No. USCG-2011-0926]

RIN 1625-AA09

Drawbridge Operation Regulation; Lafourche Bayou, LA

AGENCY: Coast Guard, DHS.

ACTION: Notice reopening comment period.

SUMMARY: The U.S. Coast Guard is reopening the comment period to solicit additional comments concerning its Notice of Proposed Rulemaking to change the regulation governing the six bridges across Bayou Lafourche, south of the Gulf Intracoastal Waterway (GIWW).

DATES: The comment period for the proposed rule published April 16, 2012, at 77 FR 22520, is reopened. Comments and related material must be received by July 5, 2012.

ADDRESSES: You may submit comments identified by docket number USCG-2011-0926 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, call or email Mr. Jim Wetherington; Bridge Administration Branch, Eighth Coast Guard District; telephone 504-671-2128, email james.r.wetherington@uscg.mil. If you have questions on viewing or submitting material to the docket, call Renee V. Wright, Program Manager, Docket Operations, telephone 202-366-9826.

SUPPLEMENTARY INFORMATION:

A. Public Participation and Request for Comments

We encourage you to participate in this rulemaking by submitting comments and related materials. All comments received will be posted, without change to http://www.regulations.gov and will include any personal information you have provided.

1. Submitting Comments

If you submit a comment, please include the docket number for this rulemaking (USCG-2011-0926), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, click on the “submit a comment” box, which will then become highlighted in blue. In the “Document Type” drop down menu select “Proposed Rules” and insert “USCG-2011-0926” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, click on the “read comments” box, which will then become highlighted in blue. In the “Keyword” box insert “USCG-2011-0926” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one to the docket using one of the four methods specified under ADDRESSES. Please explain why one would be beneficial. If we determine that one would aid this rulemaking, we will hold one at a time and place announced by a later notice in the Federal Register.

B. Background and Purpose

On April 16, 2012, we published a notice of proposed rulemaking (NPRM) entitled, “Drawbridge Operation Regulation; Lafourche Bayou, LA,” in the Federal Register (77 FR 22520). The original comment period closed on May 16, 2012. The NPRM proposed the initial changes to the regulation governing six bridges that cross Lafourche Bayou and contains useful background and analysis related to the initial proposed change to accommodate traffic during the local school year schedule change. The public is encouraged to review the NPRM. We received one comment in support of the proposed change. We also received a request for an additional change specific to the operating schedule for the Tarpon Bridge, at Galliano, Lafourche Parish, LA, one of the six bridges under the regulation. The one comment received and the request for an additional change in the Tarpon Bridge operating schedule may be accessed through the docket as indicated in the Viewing comments and documents section under Public Participation and Request for Comments. No public meeting was requested, and none was held.

The Tarpon Bridge is part of a main route to and from South Lafourche High School. The school's students, staff, and faculty face a traffic delay and back up with the current schedule allowing marine traffic through until just before 7 a.m., which is the starting time for the regulation. This traffic delay causes a 15-minute back up leading to tardiness of faculty, staff and students. The faculty, staff and students requested a change to the existing operating regulation asking that the beginning time for the regulation be moved back 15 minutes, to 6:45 a.m., to accommodate the school traffic in this area and the school hours. This modification would allow for the safe and timely arrival for all parties concerned and would not significantly affect mariners in the area. All other parts of this regulation change would remain the same.

This notice re-opening the comment period ensures notice and opportunity to comment on the additional change required to fully accommodate the updated school year school year schedule and times before making the proposed changes final.

This notice is issued under authority of 33 U.S.C. 1223 and 5 U.S.C. 552.

Dated: June 6, 2012.
Roy A. Nash,
Rear Admiral, U.S. Coast Guard, Commander, Eighth Coast Guard District.

[FR Doc. 2012-14651 Filed 6-14-12; 8:45 am]

BILLING CODE 9110-04-P